DEPARTMENT OF DEFENSE

Office of the Secretary

[Transmittal No. 21-44]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 21-44 with attached Policy Justification and Sensitivity of Technology.

Dated: March 16, 2023.
Aaron T. Siegel,
Alternate OSD Federal Register Liaison Officer, Department of Defense.

BILLING CODE 5001-06-P

BILLING CODE 5001-06-C

Transmittal No. 21-44

Notice of Proposed Issuance of Letter of Offer Pursuant to Section 36(b)(1) of the Arms Export Control Act, as amended

(i) Prospective Purchaser: Taipei Economic and Cultural Representative Office in the United States (TECRO)

(ii) Total Estimated Value:

Major Defense Equipment * | $635 million
Other | $115 million
TOTAL | $750 million
Funding Source: National Funds.

(iii) Description and Quantity or Quantities of Articles or Services under Consideration for Purchase:

Major Defense Equipment (MDE):

Forty (40) 155mm M109A6 Medium Self-Propelled Howitzer Systems

Twenty (20) M992A2 Field Artillery Ammunition Support Vehicle (FAASV)

One (1) Advanced Field Artillery Tactical Data System (AFATDS)

Five (5) M88A2 Hercules Vehicles

Five (5) M2 Chrysler Mount .50 Caliber Machine Guns

One thousand six hundred ninety-eight (1,698) Multi-Option, Precision Guidance Kits (PGK)

Non-MDE:

Also included are M109A6/M992A2 overhaul, conversion and refurbishment services; Special Tools and Test Equipment (STTE); Defense Advanced Global Positioning System (GPS) Receiver; AN/VVS(2) Night Driver's Viewer (NDV); Dynamic Reference Unit Hybrid Replacement Inertial Navigation System; Basic Issue Items (BII); Program Management Support; Verification Testing; System Technical Support; Transportation; Spare and repair parts; communication support equipment; communication equipment integration; tools and test equipment; personnel training and training equipment; repair and return program; camouflage nets; Components of End Items (COEI), Additional Authorized List (AAL), Technical Manuals; Quality Assurance Team (QAT); 155mm M232A1 Propelling Charges, M82 Percussion Primer Fuzes, support and test equipment, integration and test support, software delivery, publications and technical documentation. U.S. Government and contractor engineering; technical and logistics support services; storage; and other related elements of logistics and program support; OCONUS Deprocessing Service; Export Single Channel Ground and Airborne Radio System (SINCGARS); OCONUS Contractor provided Training, Field Service Representatives (FSR); M2A1 .50 Cal MG; MK93 MOD 2 Mount Machine Gun; M239 Smoke Grenade Launchers, U.S. Government and contractor representatives' technical assistance, engineering and logistics support services, and other related elements of logistics support.

(iv) Military Department: Army (TW-B-ZDI)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: August 4, 2021

* As defined in Section 47(6) of the Arms Export Control Act.

POLICY JUSTIFICATION

Taipei Economic and Cultural Representative Office in the United States (TECRO)—155mm M109A6 Paladin Medium Self-Propelled Howitzer System

TECRO has requested to buy forty (40) 155mm M109A6 Medium Self-Propelled Howitzer Systems; twenty (20) M992A2 Field Artillery Ammunition Support Vehicles (FAASV); one (1) Advanced Field Artillery Tactical Data System (AFATDS); five (5) M88A2 Hercules vehicles; five (5) M2 Chrysler Mount .50 caliber machine guns; and one thousand six hundred ninety-eight (1,698) multi-option, Precision Guidance Kits (PGK). Also included are M109A6/M992A2 overhaul, conversion and refurbishment services; Special Tools and Test Equipment (STTE); Defense Advanced Global Positioning System (GPS) Receiver; AN/VVS(2) Night Driver's Viewer (NDV); Dynamic Reference Unit Hybrid Replacement Inertial Navigation System; Basic Issue Items (BII); Program Management Support; Verification Testing; System Technical Support; Transportation; Spare and repair parts; communication support equipment; communication equipment integration; tools and test equipment; personnel training and training equipment; repair and return program; camouflage nets; Components of End Items (COEI), Additional Authorized List (AAL), Technical Manuals; Quality Assurance Team (QAT); 155mm M232A1 Propelling Charges, M82 Percussion Primer Fuzes, support and test equipment, integration and test support, software delivery, publications and technical documentation. U.S. Government and contractor engineering; technical and logistics support services; storage; and other related elements of logistics and program support; OCONUS Deprocessing Service; Export Single Channel Ground and Airborne Radio System (SINCGARS); OCONUS Contractor provided Training, Field Service Representatives (FSR); M2A1 .50 Cal MG; MK93 MOD 2 Mount Machine Gun; M239 Smoke Grenade Launchers, U.S. Government and contractor representatives' technical assistance, engineering and logistics support services, and other related elements of logistics support. The total estimated program cost is $750 million.

This proposed sale is consistent with U.S. law and policy as expressed in Public Law 96-8.

This proposed sale serves U.S. national, economic, and security interests by supporting the recipient's continuing efforts to modernize its armed forces and to maintain a credible defensive capability. The proposed sale will help improve the security of the recipient and assist in maintaining political stability, military balance, economic and progress in the region.

This proposed sale of M109A6 SPH will contribute to the modernization of the recipient's self-propelled howitzer fleet, enhancing its ability to meet current and future threats. These systems will contribute to the recipient's goal of updating its military capability while further enhancing interoperability with the United States and other allies. The recipient will have no difficulty absorbing these systems into its armed forces.

The proposed sale of this equipment and support will not alter the basic military balance in the region.

The prime contractor for the Self-Propelled Howitzer Systems will be BAE Systems, Anniston, AL, and Elgin, OK; M992A2 FAASV, Anniston Army Depot (ANAD), Bynum, AL; and M88A2 recovery vehicles, BAE, York, PA. The purchaser has requested offsets. At this time, agreements are undetermined and will be defined in negotiations between the purchaser and contractor.

Implementation of this proposed sale will not require the permanent assignment of any additional U.S. Government or contractor representatives to recipient. Support teams will travel to recipient on a temporary basis.

There will be no adverse impact on U.S. defense readiness as a result of this proposed sale.

Transmittal No. 21-44

Notice of Proposed Issuance of Letter of Offer Pursuant to Section 36(b)(1) of the Arms Export Control Act

Annex

Item No. vii

(vii) Sensitivity of Technology:

1. The Paladin M109A6 howitzer is the fifth product improvement to the original M109 self-propelled howitzer. It features improvements in the areas of survivability; reliability, availability, and maintainability (RAM); responsiveness; and terminal effects. The M109A6 is an armored, full tracked howitzer carrying 37 complete conventional rounds and two Copperhead projectiles and is operated by a crew of four. It is designed with a new turret structure that facilitates integration of the various turret improvements and vulnerability reduction measures. It improves overall crew compartment layout and space. The howitzer can travel at a maximum speed of 38 miles per hour and has a maximum cruising range of 186 miles. The M109A6 can operate independently, on the move, it can receive a fire mission, compute firing data, select and take up its firing position, automatically unlock and point its cannon, fire and move—all without external technical assistance. Firing the first round following a move in under 60 seconds, a “shoot and scoot” capability protects the crew from counterbattery fire. The M109A6 is capable of firing up to four rounds per minute to ranges of 30 kilometers. The M109A6 features increased survivability characteristics such as day/night operability, Nuclear, Biological, Chemical (NBC) protection with climate control and secure voice and digital communications. The crew remains in the vehicle throughout the mission.

2. The Inertial Navigation Unit (INU) component provides the vehicle with its own position location utilizing sensors that continuously calculates its direction and velocity without the continuous dependency of a GPS; the INU receives GPS data from an external GPS receiver as an input when available to provide better precision. The INU allows the vehicle to more precisely calculate its position to other components in the vehicle to improve its functions and safety of use; these functions include movement and maneuver of the vehicle, movement of the turret, and pointing of the gun tube.

3. The Electronic Fire Control System (EFCS) commonly referred to as the Paladin Fire Control System (PFCS) is the major change for the Paladin M109A6 Howitzer from the manual fire control system used on the M109A5. This gives the howitzer the ability to operate over a widely dispersed area and to move and emplace using the on board fire control navigation and GPS system. The M109A6 can move and position within an assigned position area, process technical firing data, and fire a mission without relying on aiming circles and wire lines. The M109A6 can change position more frequently, an advantage against enemy fire. Such advancements give new meaning to the artillery's ability to move, shoot and communicate. In addition, the EFCS with embedded electronic diagnostics improves maintenance and repair functions by assisting in pinpointing faults.

4. The Defense Advanced GPS (Global Positioning System) Receiver (DAGR) is a lightweight (less than 2 pounds) hand-held or host platform-mounted, dual frequency (L1/L2), Selective Availability Anti-Spoofing Module (SAASM) based, Precise Positioning Service (PPS) device that receives and decodes the L1 and L2 signals-in-space which are transmitted by the NAVSTAR GPS satellite constellation. The DAGR provides real-time positioning, velocity (ground speed), navigation, and timing (PVNT) information, in stand-alone (dismounted) and mounted (ground facilities, sea, air, and land vehicles) configurations. The DAGR can support missions involving land-based war-fighting and non-war fighting operations. The DAGR can also be used as a secondary or supplemental aid to aviation-based missions which involve operations in low-dynamic aircraft, and as an aid to navigation in water-borne operations.

5. The M1156 Precision Guidance Kit (PGK) is a Global Positioning System (GPS) Guidance Kit with fuzing functions for the M795 and M549A1 155mm High Explosive (HE) Artillery Projectiles. The PGK corrects the ballistic trajectory of the projectile to reduce delivery errors and thus improves projectile accuracy. The PGK will effectively reduce target delivery error of conventional artillery munitions and reduce the number of projectiles required to execute a fire mission.

6. The 155mm M232A1 Propelling Charge (DODIC DA13), will be used in M109 series howitzers. The Modular Artillery Charge System (MACS) consists of two propelling charge module types, the M231 and the M232/M232A1, and their associated packaging. The system is compatible with all current and planned 155mm field artillery weapons.

7. The M82 Percussion Primer (DODIC N523) will be used in M109 series howitzers.

8. The International Field Artillery Tactical Data System is the international export version of the Army's Advanced Field Artillery Tactical Data System (AFATDS). It provides networked and fully automated support for the planning, coordination, control, and execution of fires and effects such as mortars, field artillery, rockets and missiles, and close air support. International versions are developed for each customer unique to the weapon and targeting systems in their inventory.

9. Field Artillery Ammunition Support Vehicle (FAASV) M992A2 this ammunition vehicle has no turret, but has a taller superstructure to store 95 rounds with a corresponding number of powders and primers. Until recently, much of the remaining internal crew space was taken up by a hydraulically powered conveyor system designed to allow the quick uploading of rounds or their transfer to the M109-series howitzer.

10. Heavy Equipment Recovery Combat Utility Lift and Evacuation System (HERCULES) Improved Recovery Vehicle—M88A2 recovers tanks mired to different depths removes and replaces tank turrets and power packs, and uprights overturned heavy combat vehicles. The main winch of the M88A2 is capable of a 70-ton, single-line recovery, allowing the HERCULES to provide recovery of the 70-Ton M1A2 Abrams Tank.

11. The A-frame boom and hoist winch of the M88A2 can lift 35 tons. The spade can be used to anchor the vehicle when using the main winch and can be used for light earth moving to prepare a recovery area. The M88A2 employs an auxiliary power unit to provide auxiliary electrical and hydraulic power when the main engine is not in operation. It can also be used to slave start other vehicles, as well as a means to refuel or defuel vehicles. The M88A2 can refuel Abrams tanks from its own fuel tank.

12. The Browning M2 is an air-cooled, belt-fed machine gun. The M2 fires from a closed bolt, operated on the short recoil principle. The M2 fires the .50 BMG cartridge, which offers long range, accuracy, and immense stopping power.

13. The highest level of classification of defense articles, components, and services included in this potential sale is SECRET.

14. If a technologically advanced adversary were to obtain knowledge of the hardware and software elements, the information could be used to develop countermeasures or equivalent systems, which might reduce system effectiveness or be used in the development of a system with similar or advanced capabilities.

15. A determination has been made that the recipient can provide substantially the same degree of protection for the sensitive technology being released as the U.S. Government. This sale is necessary in furtherance of the U.S. foreign policy and national security objectives outlined in the Policy Justification.

16. All defense articles and services listed in this transmittal have been authorized for release and export to the recipient.

[FR Doc. 2023-05825 Filed 3-21-23; 8:45 am]

BILLING CODE 5001-06-P